DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Services Accountability Improvement System—(OMB No. 0930-0208)—Revision

This revised instrument will allow SAMHSA to collect information on two new strategic initiatives—Trauma and Violence and Military Families. The new items will be added to the Services Accountability Improvement System (SAIS), which is a real-time, performance management system that captures information on the substance abuse treatment and mental health services delivered in the United States. A wide range of client and program information is captured through SAIS for approximately 600 grantees. Substance abuse treatment facilities submit their data on a monthly and even a weekly basis to ensure that SAIS is an accurate, up-to-date reflection on the scope of services delivered and characteristics of the treatment population. Over 30 reports on grantee performance are readily available on the SAIS Web site. The reports inform staff on the grantees' ability to serve their target populations and meet their client and budget targets. SAIS data allow grantees information that can guide modifications to their service array.

With the addition of new questions regarding military families, experiences with trauma, and experiences with violence GFA, there is a proposed new data collection instrument up for comment. Approval of this information collection will allow SAMHSA to continue to meet Government Performance and Results Act of 1993 (GPRA) reporting requirements that quantify the effects and accomplishments of its discretionary grant programs which are consistent with OMB guidance.

CSAT has increased the number of questions in the instrument to satisfy reporting needs. The following paragraphs present a description of the changes made to the information collection. These questions will be contained in new sections in the GPRA tool.

Section H. Violence and Trauma—CSAT proposes to add the following 6 items in a new section entitled “Violence and Trauma”.

1. Have you ever experienced violence or trauma in any setting (including community or school violence; domestic violence; physical, psychological, or sexual maltreatment/assault within or outside of the family; natural disaster; terrorism; neglect; or traumatic grief)? No, (skip to next section)

2. Did any of these experiences feel so frightening, horrible, or upsetting that in the past and/or the present that you:

2a. Have had nightmares about it or thought about it when you did not want to?

2b. Tried hard not to think about it or went out of your way to avoid situations that remind you of it?

2c. Were constantly on guard, watchful, or easily startled?

2d. Felt numb and detached from others, activities, or your surroundings?

3. In the past 30 days, how often have you been hit, kicked, slapped, or otherwise physically hurt?

• Experiences with Violence and Trauma—One of SAMHSA's 10 Strategic Initiatives is trauma and violence. In order to capture this information, CSAT is adding six new questions to be asked of respondents. This information will help in SAMHSA's overall goal of reducing the behavioral health impacts of violence and trauma by encouraging substance abuse treatment programs to focus on trauma-informed services.

Section L. Military Family and Deployment—CSAT proposes to add the following 6 new items in a new section entitled “Military Family and Deployment”.

1. Have you ever served in the Armed Forces, in the Reserves, or the National Guard [select all that apply]? No, (Skip to #2)

1b. Are you currently on active duty in the Armed Forces, in the Reserves, or the National Guard [select all that apply]?

1c. Have you ever been deployed to a combat zone?

2. Is anyone in your family or someone close to you on active duty in the Armed Forces, in the Reserves, or the National Guard, or separated or retired from Armed Forces, Reserves, or the National Guard? No, (Skip to next section)

3. What is the relationship of that person (Service Member) to you?

3b. Has the Service Member experienced any of the following (check all that apply):

○ Deployed in support of Combat Operations (e.g. Iraq or Afghanistan)

○ Was physically Injured during combat Operations

○ Developed combat stress symptoms/difficulties adjusting following deployment, including PTSD, Depression, or suicidal thoughts

○ Died or was killed

• Veteran Family Status and Areas of Deployment—SAMHSA is also interested in collecting data on active duty and veteran military members. Collection of these data will allow CSAT to identify the number of veterans served, deployment status and location, and family veteran status in conjunction with the types of services they may receive. Identifying a client's veteran status and deployment area allows CSAT and the grantees to monitor these clients and explore whether special services or programs are needed to treat them for substance abuse and other related issues. Identification of veteran status and other military family issues will also allow coordination between SAMHSA and other Federal agencies in order to provide a full range of services to veterans. CSAT will also be able to monitor their outcomes and activities per the NOMS. The total annual burden estimate is shown below:

Estimates of Annualized Hour Burden ¹—CSAT GPRA Client Outcome Measures for Discretionary Programs
Center/form/respondent type | No. of respondents | Responses per respondent | Total responses | Hours per response | Total hour burden | Added burden proportion ²
Clients
Adolescents | 3,900 | 4 | 15,600 | .5 | 7,800 | .34
Adults:
General (non ATR or SBIRT) | 28,000 | 3 | 84,000 | .5 | 42,000 | .34
ATR | 53,333 | 3 | 159,999 | .5 | 80,000 | .34
SBIRT ⁴ Screening Only | 150,618 | 1 | 150,618 | .13 | 19,580 | 0
SBIRT Brief Intervention | 27,679 | 3 | 83,037 | .20 | 16,607 | 0
SBIRT Brief Tx & Refer to Tx | 9,200 | 3 | 27,600 | .5 | 13,800 | .34
Client Subtotal | 272,730 |  | 520,854 |  | 179,787 |
Data Extract ⁵ and Upload
Adolescent Records | 44 grants | 44 × 4 | 176 | .18 | 32 | —
Adult Records:
General (non ATR or SBIRT) | 528 grants | 70 × 3 | 210 | .18 | 38 | —
ATR Data Extract | 53,333 | 3 | 160,000 | .16 | 25,600 | —
ATR Upload ⁶ | 24 grants | 3 | 160,000 | 1 hr. per 6,000 records | 27 | —
SBIRT Screening Only Data Extract | 9 grants | 21,517 × 1 | 21,517 | .07 | 1,506 | —
SBIRT Brief Intervention Data Extract | 9 grants | 3,954 × 3 | 11,862 | .10 | 1,186 | —
SBIRT Brief Tx & Refer to Tx Data Extract | 9 grants | 1,314 × 3 | 3,942 | .18 | 710 | —
SBIRT Upload ⁷ | 7 grants |  | 171,639 | 1 hr. per 6,000 records | 29 | —
Data Extract and Upload Subtotal | 53,856 |  | 529,382 |  | 29,134 |
Total | 326,586 |  | 1,050,236 |  | 208,921 |
Notes:
1. This table represents the maximum additional burden if adult respondents, for the discretionary services programs including ATR, provide three sets of responses/data and if CSAT adolescent respondents, provide four sets of responses/data.
2. Added burden proportion is an adjustment reflecting customary and usual business practices programs engage in (e.g., they already collect the data items).
3. Estimate based on 2010 hourly wave of $19.97 for U.S. workforce eligible from the Bureau of Labor Statistics
4. Screening, Brief Intervention, Treatment and Referral (SBIRT) grant program:
* 27,679 Brief Intervention (BI) respondents complete sections A & B of the GPRA instrument, all of these items are asked during a customary and usual intake process resulting in zero burden; and
* 9,200 Brief Treatment (BT) & Referral to Treatment (RT) respondents complete all sections of the GPRA instrument.
5. Data Extract by Grants: Grant burden for capturing customary and usual data.
6. Upload: all 24 ATR grants upload data.
7. Upload: 7 of the 9 SBIRT grants upload data; the other 2 grants conduct direct data entry.

Based on current funding and planned fiscal year 2010 notice of funding announcements (NOFA), the CSAT programs that will use these measures in fiscal years 2010 through 2012 include: the Access to Recovery 2 (ATR2), ATR3, Addictions Treatment for Homeless; Adult Criminal Justice Treatment; Assertive Adolescent Family Treatment; HIV/AIDS Outreach; Office of Juvenile Justice and Delinquency Prevention—Brief Intervention and Referral to Treatment (OJJDP-BIRT); OJJDP-Juvenile Drug Court (OJJDP-JDC); Offender Re-entry Program; Pregnant and Postpartum Women; Recovery Community Services Program—Services; Recovery Oriented Systems of Care; Screening and Brief Intervention and Referral to Treatment (SBIRT), Targeted Capacity Expansion (TCE); TCE/HIV; Treatment Drug Court; and the Youth Offender Reentry Program. SAMHSA uses the performance measures to report on the performance of its discretionary services grant programs. The performance measures information is used by individuals at three different levels: the SAMHSA administrator and staff, the Center administrators and government project officers, and grantees

SAMHSA and its Centers will use the data for annual reporting required by GPRA and for NOMs comparing baseline with discharge and follow-up data. GPRA requires that SAMHSA's report for each fiscal year include actual results of performance monitoring for the three preceding fiscal years. The additional information collected through this process will allow SAMHSA to report on the results of these performance outcomes as well as be consistent with the specific performance domains that SAMHSA is implementing as the NOMs, to assess the accountability and performance of its discretionary and formula grant programs.

Send comments to Summer King, SAMHSA Reports Clearance Officer, Room 8-1099, 1 Choke Cherry Road, Rockville, MD 20857 or e-mail her a copy at summer.king@samhsa.hhs.gov. Written comments should be received within 60 days of this notice.

Dated: June 8, 2011. _
Elaine Parry,
Director, Office of Management, Technology and Operations.

[FR Doc. 2011-14795 Filed 6-14-11; 8:45 am]

BILLING CODE 4162-20-P